DEPARTMENT OF HEALTH AND HUMAN SERVICES

Centers for Medicare & Medicaid Services

[Document Identifier: CMS-R-64, CMS-3070G-I, CMS-576A, and CMS-304/304A]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved information collection.

Title of Information Collection: Indirect Medical Education (IME) and Supporting Regulations 42 CFR 412.105; Direct Graduate Medical Education (GME) and Supporting Regulations in 42 CFR 413.75-413.73.

Use: The collection of information on interns and residents (IR) is needed to properly calculate Medicare program payments to hospitals that incur indirect and direct costs for medical education. The agency's Intern and Resident Information System (IRIS) and similar contractor systems use the information for producing reports of duplicate full-time equivalent IR counts for IME and GME. The contractors also use this information to ensure that hospitals are properly reimbursed for IME and GME, and help eliminate duplicate reporting of IR counts which inflate payments. The collection of this information affects 1,215 hospitals which participate in approved medical education programs.

Form Number: CMS-R-64 (OMB#: 0938-0456).

Frequency: Recordkeeping and Reporting—Annually.

Affected Public: Not-for-profit and Business or other for-profit institutions.

Number of Respondents: 1,215.

Total Annual Responses: 1,215.

Total Annual Hours: 2,430.

2. Type of Information Collection Request: Extension of a currently approved information collection.

Title of Information Collection: Intermediate Care Facility for the Mentally Retarded or Persons with Related Conditions ICF/MR Survey Report Form and Supporting Regulations at 42 CFR 442.30, 483.410, 483.420, 483.440, 483.50, and 483.460.

Use: The survey forms are needed to ensure provider compliance. In order to participate in the Medicaid program as an ICF/MR, providers must meet Federal standards. The survey report form is used to record providers' level of compliance with the individual standard requirements and report it to the Federal government.

Form Number: CMS-3070G-I (OMB#: 0938-0062).

Frequency: Recordkeeping and Reporting—Annually.

Affected Public: Business or other for-profit and Not-for-profit institutions.

Number of Respondents: 6,428.

Total Annual Responses: 6,428.

Total Annual Hours: 19,284.

3. Type of Information Collection Request: Extension of a currently approved collection.

Title of Information Collection: Organ Procurement Organization's (OPOs) Health Insurance Benefits Agreement and Supporting Regulations at 42 CFR 486.301-486.348.

Use: The information provided on this form serves as a basis for continuing the agreements with CMS and the 58 OPOs for participation in the Medicare and Medicaid programs and for reimbursement of service.

Form Number: CMS-576A (OMB#: 0938-0512.

Frequency: Reporting—Every 4 years and as needed.

Affected Public: Business or other for-profit and Not-for-profit institutions.

Number of Respondents: 58.

Total Annual Responses: 58.

Total Annual Hours: 116.

4. Type of Information Collection Request: Extension of a currently approved information collection.

Title of Information Collection: Reconciliation of State Invoice and Prior Quarter Adjustment Statement.

Use: Section 1927 of the Social Security Act requires drug labelers to enter into and have in effect a rebate agreement with CMS for States to receive funding for drugs dispensed to Medicaid recipients. Drug manufacturers must complete and submit to States the CMS-304 form to explain any rebate payment adjustments for the current quarter, and complete and submit the CMS-304A form to States to explain rebate payment adjustments to any prior quarters. Both forms are used to reconcile drug rebate payments made by manufacturers with the States invoices of rebates due.

Form Number: CMS-304/304A (OMB#: 0938-0676).

Frequency: Recordkeeping and Reporting—Quarterly.

Affected Public: Business or other for-profit.

Number of Respondents: 550.

Total Annual Responses: 3,740.

Total Annual Hours: 139,480.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: October 24, 2006.
Michelle Shortt,
Director, Regulations Development Group, Office of Strategic Operations and Regulatory Affairs.

[FR Doc. E6-18413 Filed 11-2-06; 8:45 am]

BILLING CODE 4120-01-P